DEPARTMENT OF ENERGY

Federal Energy Regulatory Commission

[Docket No. AD13-9-000]

Hydropower Regulatory Efficiency Act of 2013; Supplemental Notice of Workshop

As announced in the Notices issued on September 3, 2013 and September 18, 2013, the Federal Energy Regulatory Commission (FERC or Commission) workshop scheduled for October 2, 2013, has been cancelled and rescheduled for October 22, 2013. We will provide additional information regarding the October 22, 2013, workshop under a separate notice.

Issued: September 27, 2013.
Nathaniel J. Davis, Sr.,
Deputy Secretary.

[FR Doc. 2013-24430 Filed 10-9-13; 8:45 am]

BILLING CODE P